SMALL BUSINESS ADMINISTRATION

[Declaration of Disaster #3550]

Commonwealth of Pennsylvania

As a result of the President's major disaster declaration for Public Assistance on August 23, 2003, and subsequent amendments closing the incident period effective September 12, 2003 and adding Individual Assistance on September 19, 2003, I find that Lackawanna County in the Commonwealth of Pennsylvania constitutes a disaster area due to damages caused by severe storms, tornadoes, and flooding that occurred on July 21, 2003 and continuing through September 12, 2003. Applications for loans for physical damage as a result of this disaster may be filed until the close of business on November 18, 2003 and for economic injury until the close of business on June 21, 2004 at the address listed below or other locally announced locations:

U.S. Small Business Administration, Disaster Area 1 Office, 360 Rainbow Blvd. South, 3rd Floor, Niagara Falls, NY 14303.

In addition, applications for economic injury loans from small businesses located in the following contiguous counties may be filed until the specified date at the above location: Luzerne, Monroe, Susquehanna, Wayne, and Wyoming in the Commonwealth of Pennsylvania.

The interest rates are:

| Percent
For Physical Damage:
Homeowners with credit available elsewhere | 5.125
Homeowners without credit available elsewhere | 2.562
Businesses with credit available elsewhere | 6.199
Businesses and non-profit organizations without credit available Elsewhere | 3.100
Others (including non-profit organizations) with credit available elsewhere | 5.500
For Economic Injury:
Businesses and small agricultural cooperatives without credit available elsewhere | 3.100

The number assigned to this disaster for physical damage is 355011. For economic injury, the number is 9X1200.

(Catalog of Federal Domestic Assistance Program Nos. 59002 and 59008).
Dated: September 23, 2003.
Cheri L. Cannon,
Acting Associate Administrator for Disaster Assistance.

[FR Doc. 03-24687 Filed 9-29-03; 8:45 am]

BILLING CODE 8025-01-P